DEPARTMENT OF ENERGY

Computer Software Available for License

AGENCY: Office of General Counsel, Department of Energy.

ACTION: Notice of computer software available for license.

SUMMARY: The U.S. Department of Energy announces that the following computer software is available for license: “MASTER” (Mathematical Software for Teaching, Education, and Research).

FOR FURTHER INFORMATION CONTACT: John T. Lucas, Office of the Assistant General Counsel for Technology Transfer and Intellectual Property, U.S. Department of Energy, 1000 Independence Ave., SW., Washington, DC 20585; Telephone (202) 586-2802.

SUPPLEMENTARY INFORMATION: The above-captioned computer software was developed under the International Science and Technology Center (ISTC) project # 1478.2. The software is used to solve physical problems by means of computer simulation. It is capable of simulating the following non-stationary processes in one-dimensional approximation: gas, fluid, and solid matter movement under gradients of pressure, temperature, or energy release; propagation of shock, detonation, and sound waves in continuous and porous substances; destruction and spallation; heat transfer; and magnetohydrodynamics. The software is meant for undergraduates, post graduates, teachers, and researchers. It can be a supplement to courses on continuum mechanics and condensed matter physics. It can exhibit examples of classical problems, illustrate features of physical process, conduct qualitative and quantitative assessments of a phenomenon under study, and solve applied tasks.

The software currently may be in need of revision, and the Department is looking for one or more private-sector parties who will revise and maintain the software at their own expense. The private sector party or parties will have the right to market the software to non-Government parties. The Government will retain an unlimited, royalty free, non-exclusive license in the original version of the software for Governmental purposes.

Parties will be given 45 calendar days from the date of this Notice to contact the Department. After the period for response has elapsed, respondents will be sent a series of questions on their plans for revising, maintaining, and commercializing the software and under what terms they would make it available to the Government. DOE will then decide which party or parties to select.

Issued in Washington, DC, on September 29, 2004.
Paul A. Gottlieb,
Assistant General Counsel for Technology Transfer and Intellectual Property.

[FR Doc. 04-22357 Filed 10-4-04; 8:45 am]

BILLING CODE 6450-01-P